SECURITIES AND EXCHANGE COMMISSION

Sunshine Act Meeting

Federal Register Citation of Previous Announcement: [to be published].

Status: Open meeting.

Place: 100 F Street, NE., Washington, DC.

Date and Time of Previously Announced Meeting: Wednesday, October 1, 2008 at 10 a.m.

Change in the Meeting: Cancellation of Meeting.

The Open Meeting scheduled for Wednesday, October 1, 2008 has been cancelled.

For further information please contact the Office of the Secretary at (202) 551-5400.

Dated: September 26, 2008.
Florence E. Harmon,
Acting Secretary.

[FR Doc. E8-23074 Filed 9-30-08; 8:45 am]

BILLING CODE 8011-01-P